DEPARTMENT OF STATE

[Public Notice: 9603]

Pilot Test of DS-2031 Into International Trade Data System

AGENCY: Bureau of Oceans and International Environmental and Scientific Affairs, Office of Marine Conservation (OES/OMC), Department of State.

ACTION: Notice of request for public comment.

SUMMARY: OES/OMC announces a pilot test of the International Trade Data System (ITDS) involving the electronic submission of forms and/or data related to importations of shrimp and shrimp products using the Partner Government Agency (PGA) Message Set and Document Image System (DIS) components of the Automated Commercial Environment (ACE). The U.S. Customs and Border Protection (CBP) and OES/OMC have developed a pilot plan to test and assess the electronic transmission of import data for shrimp and shrimp products. The pilot test will involve using the ACE, the OMC PGA Message Set, the DIS and the Automated Broker Interface (ABI) to transmit the data required for admissibility determinations for entries of shrimp and product of shrimp. ABI is the electronic data interchange that enables participants to file electronically required import data with CBP and transfers that data into ACE. Initially, under this test, OMC PGA Message Set data may be submitted only for formal and informal consumption entries (entry types 01 and 11), filed at certain ports.

DATES: The test will commence after July 25, 2016, and will continue until concluded by publication of a notice in the Federal Register ending the test. Participants should consult the following Web site for additional information regarding pilot status: https://www.cbp.gov/trade/ace/features (see the PGA Integration tab). Comments will be accepted through the duration of the test.

ADDRESSES: To submit comments concerning this test program, send an email to Josephine Baiamonte (Josephine.Baiamonte@dhs.gov), Director, Business Transformation, ACE Business Office (ABO), Office of International Trade. In the subject line of the message, please use “Comment on PGA Message Set Test FRN”. Any party seeking to participate in the PGA Message Set test should contact their client representative. Interested parties without an assigned client representative should submit an email to Steven Zaccaro at steven.j.zaccaro@cbp.dhs.gov with the subject “PGA Message Set Test FRN-Request to Participate”.

FOR FURTHER INFORMATION CONTACT: For technical questions related to ACE or ABI transmissions, contact your assigned client representative. Interested parties without an assigned client representative should direct their questions to Steven Zaccaro at steven.j.zaccaro@cbp.dhs.gov. For PGA related questions, contact Emi Wallace (CBP) at emi.r.wallace@cbp.dhs.gov and for OMC-related questions contact the Section 609 Program Manager at DS2031@state.gov.

SUPPLEMENTARY INFORMATION:

Background

I. The National Customs Automation Program (NCAP)

NCAP was established in Subtitle B of Title VI—Customs Modernization, in the North American Free Trade Agreement Implementation Act (Pub. L. 103-182, 107 Stat. 2057, 2170, December 8, 1993) (Customs Modernization Act). See 19 U.S.C. 1411. Through NCAP, the initial thrust of customs modernization was on trade compliance and the development of ACE, the planned successor to the Automated Commercial System (ACS). ACE is an automated and electronic system for commercial trade processing which is intended to streamline business processes, facilitate growth in trade, ensure cargo security, and foster participation in global commerce, while ensuring compliance with U.S. laws and regulations and reducing costs for CBP and all of its communities of interest. The ability to meet these objectives depends on successfully modernizing CBP's business functions and the information technology that supports those functions. CBP's modernization efforts are accomplished through phased releases of ACE component functionality designed to replace a specific legacy ACS function. Each release will begin with a test and will end with mandatory use of the new ACE feature, thus retiring the legacy ACS function. Each release builds on previous releases and sets the foundation for subsequent releases. ABI allows participants to electronically file required import data with CBP and transfers that data into ACE.

II. ITDS

This test is in furtherance of the ITDS, which is statutorily authorized by section 405 of the Security and Accountability for Every (SAFE) Port Act of 2006, Public Law 109-347. The purpose of ITDS, as defined by section 4 of the SAFE Port Act of 2006, is to eliminate redundant information filing requirements, efficiently regulate the flow of commerce, and effectively enforce laws and regulations relating to international trade, by establishing a single portal system, operated by CBP, for the collection and distribution of standard electronic import and export data required by all participating Federal agencies.

III. PGA Message Set

The PGA Message Set consists of the data needed to satisfy the PGA reporting requirements. For purposes of this test, the affected PGA is OMC. ACE enables the message set by acting as the “single window” for the one-time submission of trade-related data required by the PGAs to CBP. The data must be submitted at any time prior to the arrival of the merchandise on the conveyance transporting the cargo to the United States as part of an ACE Entry/Cargo Release or Entry Summary. The data will be validated and made available to the relevant PGAs involved in import, export, and transportation-related decision making. The data will be used to fulfill merchandise entry and entry summary requirements and will allow for earlier release decisions and more certainty for the importer in determining the logistics of cargo delivery. Also, by virtue of being electronic, the PGA Message Set will eliminate the necessity for the submission and subsequent handling of paper documents. All PGA Message Set participants are required to use a software program that has completed ACE certification testing for the PGA Message Set. Alternatively, test participants may transmit required PGA data using the DIS as ACE is ready to receive imaged copies of OMC forms and documents through the DIS. For information regarding the use of DIS, and for a list of PGA forms and documents which may be transmitted to ACE using DIS, please see http://www.cbp.gov/trade/ace/features and 80 FR 62082 (October 15, 2015). The PGA data elements comprising the test are generally those found in the current paper form (Department of State Form 2031, Shrimp Exporter's/Importer's Declaration, or DS-2031), which currently is required to accompany all shipments of shrimp and shrimp products into the United States pursuant to Section 609 of Public Law 101-162 (Sec. 609). These data elements are set forth in the supplemental Customs and Trade Automated Interface Requirements (CATAIR) guidelines for OMC. These technical specifications, including the CATAIR chapters, can be found at the following link: http://www.cbp.gov/trade/ace/catair. Test participants and interested parties should consult https://www.cbp.gov/trade/ace/features for the most up to date information pertaining to the test.

IV. The OMC Test

This ITDS test is in furtherance of key CBP ITDS initiatives as provided in SAFE Port Act of 2006. The goal is to establish ACE as the “single window” for the Government and trade community by automating and enhancing the interaction between international trade partners, CBP, and PGAs by facilitating electronic collection, processing, sharing, and review of trade data and documents required by Federal agencies during the cargo import and export process. Processing trade data through ITDS and ACE will significantly increase efficiency and reduce costs over the manual, paper-based interactions that are currently in place. The PGA Message Set and DIS will improve communication between OMC and entry filers regarding imports and, for eligible entries, will allow test participants to submit the required data once, resulting in quicker processing. During this test, pilot participants will collaborate with CBP and OMC to examine the effectiveness of the “single window” capability. Under this test, OMC-required data will be transmitted electronically through ACE utilizing the PGA Message Set and DIS for any merchandise or combination thereof covered by any of these programs. For approved participants, the pilot test may include all modes of transport at the selected port(s). The import filing process for OMC will require the submission of specifically designated data/information. Both the designated PGA Message Set and DIS will be utilized to collect the specified information that is required by OMC in implementing Section 609. The PGA Message Set data will be submitted to the CBP ACE system through the use of ABI at the time of the filing in addition to the CBP required import Entry or Entry Summary data. Scanned copies of specific documents required will be submitted at the time of filing to the CBP DIS, either through uploading the file copies to the ABI system or by sending them to the DIS as email attachments. Examples of the kind of data that will be submitted as part of the PGA Message set are the name of the harvesting nation, the method of harvest, and the identity of the exporter, importer or ultimate consignee, and the net weight in kilograms. Examples of the types of scanned images that will be submitted to the DIS are DS-2031 forms requiring information about and the signature of a Responsible Government Official of the harvesting nation or economy. For information regarding products regulated by Section 609 and data, information, and DS-2031 form required by OMC, see the implementation guidelines for OMC at: http://www.cbp.gov/sites/default/files/documents/OMC%20PGA%20Message%20Set%20Guidelines.pdf.

V. Test Participation Criteria and Participation Procedure

Any party seeking to participate in this test must provide CBP, in their request to participate, their filer code and the port(s) at which they are interested in filing the appropriate PGA Message Set and DIS information. Requests to participate in this test will be accepted throughout the duration of the test without limitation as to number of participants. To be eligible for this pilot, the applicant must be a self-filing importer who has the ability to file ACE Entry Summaries certified for cargo release and ACE cargo release or a broker who has the ability to file ACE Entry Summaries certified for cargo release and ACE cargo release; and the applicant files entries for shrimp or shrimp products. All PGA Message Set participants are required to use a software program that has completed ACE certification testing for the PGA Message Set. The PGA Message Set data and DIS submissions are not limited by entry type except by the ACE Mandatory Use Dates which can be found at https://www.cbp.gov/trade/automated/ace-mandatory-use-dates.

VI. Anticipated Process Changes

The current paper process for the DS-2031 will eventually be replaced by the submittal of data and scanned document images through a combination of the PGA Message Set and DIS. This test covers communication and coordination among the agencies and those who file the DS-2031 for the importation of shrimp and shrimp products. The agencies will also be testing new operational processes in real time with actual ACE filings in the production environment that include test messages of errors in filing and release status updates to the port and to the filer. Entry data submissions will be subject to validation edits and any applicable PGA business rules programmed into ACE. Once entry data has cleared the initial stage of validation edits and PGA business rules, the filer will receive messages, automatically generated or manually initiated by, thus keeping the filer informed as to the status of the shipment from the time of entry data submission until the time of release. Once all of the PGAs have concluded their review of the shipment and have unset any remaining holds, CBP will send one U.S. government release message to the filer to indicate that the filer has fulfilled all U.S. government filing requirements for the shipment.

VII. Confidentiality

All data submitted and entered into ACE is subject to the Trade Secrets Act (18 U.S.C. 1905) and is considered confidential, except to the extent as otherwise provided by law. As stated in previous notices, participation in this or any of the previous ACE tests is not confidential and the name(s) of an approved participant(s) may be disclosed by CBP.

Dated: June 9, 2016.
William Gibbons-Fly,
Director, Office of Marine Conservation, Bureau of Oceans and International Environmental and Scientific Affairs, Department of State.

[FR Doc. 2016-14184 Filed 6-14-16; 8:45 am]

BILLING CODE 4710-09-P